DEPARTMENT OF COMMERCE

National Oceanic and Atmospheric Administration

Meeting of the Advisory Committee on Commercial Remote Sensing

ACTION: Notice of meeting.

SUMMARY: The Advisory Committee on Commercial Remote Sensing (ACCRES) will meet April 12, 2017.

DATES: The meeting is scheduled as follows: April 12, 2017, 9:00 a.m.-4:00 p.m. There will be two sessions open to the public. The first open session will be from 9:00 a.m.-11:30 a.m. and a second open session from 12:30 p.m.-2:45 p.m. A short closed session will be held from 3:00 p.m.-4:00 p.m.

ADDRESSES: The public portion of the meeting will be held at the Institute for Defense Analyses (IDA)—Room 1301, 4850 Mark Center Drive, Alexandria, VA 22311.

FOR FURTHER INFORMATION CONTACT: Samira Patel, NOAA/NESDIS/CRSRA, 1335 East West Highway, Room 8247, Silver Spring, Maryland 20910; (301) 713-7077 or samira.patel@noaa.gov.

SUPPLEMENTARY INFORMATION: As required by section 10(a)(2) of the Federal Advisory Committee Act, 5 U.S.C. App. 2 (FACA) and its implementing regulations, see 41 CFR 102-3.155, notice is hereby given of the meeting of ACCRES. ACCRES was established by the Secretary of Commerce (Secretary) on May 21, 2002, to advise the Secretary of Commerce through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The first part of the meeting will be open to the public pursuant to Section 10(a)(1) of the FACA. During the open portion of the meeting, the Committee will receive updates on NOAA's Commercial Remote Sensing Regulatory Affairs activities. The Committee will also be available to receive public comments on its activities. The second open session of the meeting will be dedicated to discussing legislative and regulatory reform.

After the open meeting, a short follow-on session will be closed to the public pursuant to Section 10(d) of FACA as amended by Section 5(c) of the Government in Sunshine Act, Public Law 94-409 and in accordance with Section 552b(c)(1) of Title 5, United States Code, which authorizes closure of meetings likely to disclose matters that are “specifically authorized under criteria established by Executive order to be kept secret in the interests of national defense or foreign policy and . . . in fact properly classified pursuant to such Executive order.” The part of the meeting which will be closed will address new licensing conditions for the operation of U.S. remote sensing space systems, the ongoing review and implementation of the 2015 U.S. Commercial Space Launch Competitiveness Act and related national security, foreign policy concerns and future technology considerations for NOAA's licensing decisions. These discussions are likely to disclose matters that are specifically authorized under criteria established by Executive Order 13526 to be kept secret in the interest of national defense or foreign policy and are in fact properly classified pursuant to such Executive Order. In compliance with Section 10(d) of FACA and 41 CFR 102-3.155, ACCRES has obtained an agency determination of closure, and the notice of this determination is available upon request.

Special Accommodations

The meeting is physically accessible to people with disabilities. Requests for special accommodations may be directed to Samira Patel, NOAA/NESDIS/CRSRA, 1335 East-West Highway, Room 8247, Silver Spring, Maryland 20910; (301) 713-7077 or samira.patel@noaa.gov.

Additional Information and Public Comments

Any member of the public who plans to attend the open meeting should RSVP to Samira Patel at (301) 713-7077, or samira.patel@noaa.gov by April 5, 2017. Any member of the public wishing further information concerning the meeting or who wishes to submit oral or written comments should contact Tahara Dawkins, Designated Federal Officer for ACCRES, NOAA/NESDIS/CRSRA, 1335 East-West Highway, Room 8260, Silver Spring, Maryland 20910. Copies of the draft meeting agenda can be obtained from Samira Patel at (301) 713-7077, or samira.patel@noaa.gov.

ACCRES expects that public statements presented at its meetings will not be repetitive of previously-submitted oral or written statements. In general, each individual or group making an oral presentation may be limited to a total time of five minutes. Written comments sent to NOAA/NESDIS/CRSRA on or before April 5, 2017 will be provided to Committee members in advance of the meeting. Comments received too close to the meeting date will normally be provided to Committee members at the meeting.

Stephen M. Volz,
Assistant Administrator for Satellite and Information Services.

[FR Doc. 2017-06072 Filed 3-27-17; 8:45 am]

BILLING CODE 3510-HR-P